DEPARTMENT OF AGRICULTURE

Agricultural Marketing Service

7 CFR Part 205

[Document Number AMS-NOP-14-0059; NOP-14-06]

National Organic Program

AGENCY: Agricultural Marketing Service, USDA.

ACTION: Correcting amendments.

SUMMARY: This document contains technical corrections to the USDA organic regulations (7 CFR part 205) which were published in the Federal Register on December 21, 2000. The correcting amendments are minor, mostly typographical amendments which do not change, or alter the interpretation, of any provision within the USDA organic regulations.

DATES: These corrections are effective on February 5, 2015.

FOR FURTHER INFORMATION CONTACT: Jennifer Tucker, Ph.D., Acting Director, Standards Division, USDA, AMS, NOP, Telephone: (202) 720-3252, Fax: (202) 205-7808, or email: Jennifer.Tucker@ams.usda.gov.

SUPPLEMENTARY INFORMATION:

Background

AMS published the USDA organic regulations final rule in the Federal Register on December 21, 2000 (65 FR 80637), which established the USDA National Organic Program (NOP). This program provides the national standards governing the marketing of organically produced agricultural products. Establishing the national standards facilitated domestic and international marketing of organic fresh and processed products, and assured consumers that such products meet consistent, uniform standards. After a periodic regulation review, AMS determined that several minor changes need to be inserted into the USDA organic regulations. This document makes these technical corrections which mostly involve word changes, citation changes and updates to program information.

List of Subjects in 7 CFR Part 205

Administrative practice and procedure, Agriculture, Animals, Archives and records, Imports, Labeling, Organically produced products, Plants, Reporting and recordkeeping requirements, Seals and insignia, Soil conservation.

For the reasons set forth in the preamble, AMS amends 7 CFR part 205 as follows:

PART 205—NATIONAL ORGANIC PROGRAM

1. The authority citation for 7 CFR part 205 continues to read as follows:

Authority: 7 U.S.C. 6501-6522.

§ 205.2 [Amended]

2. Amend § 205.2 by removing from the definition of “Residue testing” the term “degradations” and adding in its place the term “degradation”.

3. Amend § 205.100 by revising paragraph (c)(1) to read as follows:

§ 205.100 What has to be certified.

* * * * *

(c) * * *

(1) Knowingly sells or labels a product as organic, except in accordance with the Act, shall be subject to a civil penalty of not more than the amount specified in § 3.91(b)(1) of this title per violation.

* * * * *

4. Amend § 205.301 by revising paragraphs (f)(1), (2), and (3) to read as follows:

§ 205.301 Product composition.

* * * * *

(f) * * *

(1) Be produced using excluded methods, pursuant to § 205.105(e);

(2) Be produced using ionizing radiation, pursuant to § 205.105(f);

(3) Be processed using sewage sludge, pursuant to § 205.105(g);

* * * * *

§ 205.400 [Amended]

5. Amend § 205.400 by revising paragraph (d) to remove the reference “§ 205.104” and add, in it its place, “§ 205.103.”

6. Amend § 205.502 by revising paragraph (a) to read as follows:

§ 205.502 Applying for accreditation.

(a) A private or governmental entity seeking accreditation as a certifying agent under this subpart must submit an application for accreditation which contains the applicable information and documents set forth in §§ 205.503 through 205.505 and the fees required in § 205.640 to: Program Manager, USDA-AMS-NOP, 1400 Independence Ave. SW., Room 2648 So. Bldg., Ag Stop 0268, Washington, DC 20250-0268.

* * * * *

§ 205.510 [Amended]

7. Amend § 205.510 by removing from paragraph (b)(3) the reference “§§ 205.510(b)(2)” and adding, in its place, “§ 205.510(b)(2)”.

§ 205.603 [Amended]

8. Amend § 205.603 by removing from paragraph (a)(12) the word “Glycerine” and adding, in its place, the word “Glycerin”.

9. Amend § 205.607 by revising paragraphs (a) and (c) to read as follows:

§ 205.607 Amending the National List.

(a) Any person may petition the National Organic Standards Board for the purpose of having a substance evaluated by the Board for recommendation to the Secretary for inclusion on or deletion from the National List in accordance with the Act.

* * * * *

(c) A petition to amend the National List must be submitted to: Program Manager, USDA-AMS-NOP, 1400 Independence Ave. SW., Room 2648 So. Bldg., Ag Stop 0268, Washington, DC 20250-0268.

10. Amend § 205.641 by revising paragraph (a) to read as follows:

§ 205.641 Payment of fees and other charges.

(a) Applicants for initial accreditation and renewal of accreditation must remit the nonrefundable fee, pursuant to § 205.640(a)(3), along with their application. Remittance must be made payable to the USDA, AMS Livestock Program and mailed to: USDA, AMS Livestock, Poultry and Seed Program, QAD, P.O. Box 790304 St. Louis, MO 63179-0304 or such other address as required by the Program Manager.

* * * * *

11. Amend § 205.662 by revising paragraph (g)(1) to read as follows:

§ 205.662 Noncompliance procedure for certified operations.

* * * * *

(g) * * *

(1) Knowingly sells or labels a product as organic, except in accordance with the Act, shall be subject to a civil penalty of not more than the amount specified in § 3.91(b)(1) of this title per violation.

* * * * *

12. Amend § 205.681 by revising paragraphs (a)(2) and (d)(1) to read as follows:

§ 205.681 Appeals.

(a) * * *

(2) If the Administrator or State organic program denies an appeal, a formal administrative proceeding will be initiated to deny, suspend, or revoke the certification. Such proceeding shall be conducted pursuant to the U.S. Department of Agriculture's Uniform Rules of Practice, 7 CFR part 1, subpart H, or the State organic program's rules of procedure.

* * * * *

(d) Where and what to file. (1) Appeals to the Administrator must be filed in writing and addressed to: Administrator, USDA, AMS, c/o NOP Appeals Team, 1400 Independence Avenue SW., Room 2648-So., Stop 0268, Washington, DC 20250-0268.

* * * * *

Dated: February 2, 2015.
Rex A. Barnes,
Associate Administrator, Agricultural Marketing Service.

[FR Doc. 2015-02324 Filed 2-4-15; 8:45 am]

BILLING CODE 3410-02-P